DEPARTMENT OF THE INTERIOR

Bureau of Land Management

[OR-022-01-1060-JJ: G 03-0233]

Oregon: Meeting Notice—Use of Helicopters To Gather Wild Horses

AGENCY: Bureau of Land Management (BLM), Interior.

ACTION: Burns District Office: Public meeting to discuss the use of helicopters to gather wild horses in Oregon.

SUMMARY: In accordance with Public Law 92-195 and 43 CFR 4740.1(b), this notice sets forth the public meeting date to discuss the use of helicopters for gathering wild horses in Oregon from August 1, 2003 through February 28, 2004.

DATES: August 7, 2003—2 p.m. to 3 p.m.

ADDRESSES: The meeting will take place at the BLM Burns District Office, 28910 Hwy 20 West, Hines, Oregon.

FOR FURTHER INFORMATION CONTACT: Connie Dellera, Bureau of Land Management, Burns District Office, 28910 Hwy 20 West, Hines, Oregon 97738, telephone (541) 573-4456.

SUPPLEMENTARY INFORMATION: This meeting is open to the public. Public comments will be accepted concerning the use of helicopters to gather wild horses in eastern Oregon. The proposed gathering schedule and approximate dates of gathering for the period of August 1, 2003 through February 28, 2004, will be presented at the meeting. Approximately 700 to 900 animals are proposed for gather and adoption in Oregon depending on availability of funds.

Persons interested in making an oral statement at this meeting regarding the use of helicopters for gathering horses are asked to notify the District Manager, Burns District Office, 28910 Hwy 20 West, Hines, Oregon 97738 by August 1, 2003. Summary minutes of the meeting will be available for public inspection and duplication within 30 days following the meeting.

The Burns District is also accepting written comments regarding the use of helicopters to gather wild horses. Written statements must be received by August 6, 2003 and should be sent to the address listed above.

Comments, including names, street addresses, and other contact information of respondents, will be available for public review. Individual respondents may request confidentiality. If you wish to request that BLM consider withholding your name, street address, and other contact information (such as: Internet address, FAX or phone number) from public review or from disclosure under the Freedom of Information Act, you must state this prominently at the beginning of your comment. BLM will honor requests for confidentiality on a case-by-case basis to the extent allowed by law. BLM will make available for public inspection in their entirety all submissions from organizations or businesses, and from individuals identifying themselves as representatives or officials of organizations or businesses.

Dated: July 15, 2003.
Thomas H. Dyer,
Burns District Manager.

[FR Doc. 03-18802 Filed 7-23-03; 8:45 am]

BILLING CODE 4310-33-P